DEPARTMENT OF THE INTERIOR

National Park Service

[N6665; NPS-WASO-NAGPRA-NPS0041570; PPWOCRADN0-PCU00RP14.R50000]

Notice of Inventory Completion: Office of the State Archaeologist, University of Iowa, Iowa City, IA

AGENCY: National Park Service, Interior.

ACTION: Notice.

SUMMARY: In accordance with the Native American Graves Protection and Repatriation Act (NAGPRA), the Office of the State Archaeologist Bioarchaeology Program (OSA BP) has completed an inventory of human remains and has determined that there is a cultural affiliation between the human remains and Indian Tribes or Native Hawaiian organizations in this notice.

DATES: Repatriation of the human remains in this notice may occur on or after January 20, 2026.

ADDRESSES: Send written requests for repatriation of the human remains in this notice to Dr. Lara Noldner, Office of the State Archaeologist Bioarchaeology Program, University of Iowa, 700 S Clinton Street, Iowa City, IA 52242, email lara-noldner@uiowa.edu.

SUPPLEMENTARY INFORMATION: This notice is published as part of the National Park Service's administrative responsibilities under NAGPRA. The determinations in this notice are the sole responsibility of the OSA BP and additional information on the determinations in this notice, including the results of consultation, can be found in the inventory or related records. The National Park Service is not responsible for the determinations in this notice.

Abstract of Information Available

Based on the information available, human remains representing, at least, seven individuals have been reasonably identified. No associated funerary objects are present. The human remains were transferred to the OSA BP in March of 2024 by Kansas State University professor, Mike Finnegan. The original burial location of the remains is unknown as Finnegan excavated throughout Iowa. The taphonomic conditions of the human remains do however suggest an original burial location in the Loess Hills of Western Iowa. Two partial crania represent two adult males and commingled remains represent a minimum of three adults, with two identified as males. The commingled remains also include a minimum of two juveniles, an 8-to-12 year old and a 12-to-15 year-old (BP3859). No hazardous substances have been used to treat the human remains.

Based on the information available, human remains representing, at least, one individual has been reasonably identified. No associated funerary objects are present. At an unknown time, a partial cranium was recovered on a sandbar from an unspecified river in western Iowa and brought to Mark Anderson at the Sanford Museum in Cherokee Iowa. Anderson transferred the remains to the OSA BP in December of 2024. The partial cranium represents an older adult male individual. The human remains have taphonomic evidence of long-term inundation in water; the original burial location is unknown (BP3922). No hazardous substances have been used to treat the human remains.

Based on the information available, human remains representing at least one individual have been reasonably identified. No associated funerary objects are present. In February 2025 a right ulna was identified during an inventory of the Paul Rowe collection, known to largely be from sites in western Iowa, and transferred to the OSA BP (BP3935). The partial right ulna is represented by the distal portion and the midshaft. A faint line at the distal epiphysis indicates fusion completed only recently and that the individual was a young adult. The original burial location is unknown but was likely in Mills County, Iowa as Paul Rowe collected and documented Native American sites throughout the county from the 1920s to the 1960s. No hazardous substances have been used to treat the human remains.

Based on the information available, human remains representing at least one individual have been reasonably identified. No associated funerary objects are present. In July of 2024 kayakers identified the human remains on a sand bar in the East Nishnabotna River in Pottawattamie County, Iowa. The Pottawattamie County Sheriff's office first handled the investigation and sent the human remains to the Iowa State Medical Examiner's Office where they were determined not of medicolegal significance. The human remains were transferred to the OSA BP in February of 2025. A young to middle-aged adult female is represented by a partial cranium with evidence of long-term inundation and river transport. The original burial location is unknown as the human remains had been displaced by river erosion; the location in which they were found is documented as 13PW402 in the Iowa Site File (BP3936). No hazardous substances have been used to treat the human remains.

Based on the information available, human remains representing, at least one individual have been reasonably identified. No associated funerary objects are present. In August of 2024 human remains were discovered on a sandbar in the Little Sioux River in Woodbury County. After Woodbury County police sent the human remains to the Iowa State Medical Examiner (24-07558) they were determined to be of ancient context and transferred to the OSA in February 2025. Dark cortical coloration and taphonomic rounding of exposed sutures and broken surfaces indicates long term inundation and river transport. Site 13WD260 was assigned to the find spot; the individual's original burial location is unknown. An adult male is represented by a partial cranium (BP3937). No hazardous substances have been used to treat the human remains.

Based on the information available, human remains representing at least one individual have been reasonably identified. These human remains were displaced from an unknown location by river erosion on the Floyd River and discovered by a kayaker south of Merrill, IA. They were reported to and recovered by the Plymouth County Sherriff's Office in late August 2025. The human remains were transferred to the OSA September 25, 2025. Dark cortical coloration and taphonomic rounding of exposed sutures and broken surfaces indicates long term inundation and river transport. Site 13PM286 was assigned to the find spot. An adult female is represented by a partial cranium (BP3992). No hazardous substances have been used to treat the human remains.

Cultural Affiliation

Based on the information available and the results of consultation, cultural affiliation is reasonably identified by the geographical location and acquisition history of the human remains described in this notice.

Determinations

The OSA BP has determined that:

• The human remains described in this notice represent the physical remains of 12 individuals of Native American ancestry.

• There is a reasonable connection between the human remains described in this notice and the Cheyenne River Sioux Tribe of the Cheyenne River Reservation, South Dakota; Citizen Potawatomi Nation, Oklahoma; Flandreau Santee Sioux Tribe of South Dakota; Ho-Chunk Nation of Wisconsin; Iowa Tribe of Kansas and Nebraska; Iowa Tribe of Oklahoma; Lower Sioux Indian Community in the State of Minnesota; Miami Tribe of Oklahoma; Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation; Prairie Island Indian Community in the State of Minnesota; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Spirit Lake Tribe, North Dakota; Three Affiliated Tribes of the Fort Berthold Reservation, North Dakota; Upper Sioux Community, Minnesota; Winnebago Tribe of Nebraska; and the Yankton Sioux Tribe of South Dakota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 20, 2026. If competing requests for repatriation are received, the OSA BP must determine the most appropriate requestor prior to repatriation. Requests for joint repatriation of the human remains are considered a single request and not competing requests. The OSA BP is responsible for sending a copy of this notice to the Indian Tribes and Native Hawaiian organizations identified in this notice.

Authority: Native American Graves Protection and Repatriation Act, 25 U.S.C. 3003, and the implementing regulations, 43 CFR 10.10.

Dated: December 8, 2025.
Melanie O'Brien,
Manager, National NAGPRA Program.

[FR Doc. 2025-23378 Filed 12-18-25; 8:45 am]

BILLING CODE 4312-52-P